DEPARTMENT OF TRANSPORTATION

Federal Aviation Administration

14 CFR Part 39

[Docket No. FAA-2010-0177; Directorate Identifier 2009-NM-222-AD]

RIN 2120-AA64

Airworthiness Directives; Airbus Model A330-243, -341, -342, and -343 Airplanes; and Model A340-541 and -642 Airplanes; Equipped With Rolls-Royce Trent 500 and Trent 700 Series Engines

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: It has been evidenced by test that the tightening torque settings on the Rolls Royce Trent 500 and Trent 700 forward (FWD) and aft (AFT) engine mount link pin retention bolts have always been higher than the design value. These bolts retain the washers that maintain the engine mount vertical load pins in position. If bolts, as a consequence of the over-torque, fail and move away, it would lead to loss of the vertical load pins, which could result in loss of the primary and/or secondary load path of the forward and/or aft engine mount which could potentially lead to engine separation.

The proposed AD would require actions that are intended to address the unsafe condition described in the MCAI.

DATES: We must receive comments on this proposed AD by April 19, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2010-0177; Directorate Identifier 2009-NM-222-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0204, dated September 30, 2009 (referred to after this as “the MCAI”), to correct an unsafe condition for the specified products. The MCAI states:

It has been evidenced by test that the tightening torque settings on the Rolls Royce Trent 500 and Trent 700 forward (FWD) and aft (AFT) engine mount link pin retention bolts have always been higher than the design value. These bolts retain the washers that maintain the engine mount vertical load pins in position.

If bolts, as a consequence of the over-torque, fail and move away, it would lead to loss of the vertical load pins, which could result in loss of the primary and/or secondary load path of the forward and/or aft engine mount which could potentially lead to engine separation.

As a short term action, EASA AD 2008-0019 was issued to require a one-time visual inspection of the impacted FWD and AFT engine mount link pin retention bolts in order to detect any broken or missing bolts. This AD, which supersedes EASA AD 2008-0019, mandates a one-time [detailed] visual inspection of the FWD and AFT engine mount link pin retention bolts, in order to ensure that any over-torqued bolt is replaced.

You may obtain further information by examining the MCAI in the AD docket.

Relevant Service Information

Airbus has issued Mandatory Service Bulletins A330-71-3022 and A340-71-5004, both including Appendices 01, 02, and 03, both dated May 5, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry. We also estimate that it would take about 10 work-hours per product to comply with the basic requirements of this proposed AD. The average labor rate is $85 per work-hour. Required parts would cost about $10,842 per product. Where the service information lists required parts costs that are covered under warranty, we have assumed that there will be no charge for these costs. As we do not control warranty coverage for affected parties, some parties may incur costs higher than estimated here. Based on these figures, we estimate the cost of the proposed AD on the U.S. operator to be $11,692.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2010-0177; Directorate Identifier 2009-NM-222-AD.

Comments Due Date

(a) We must receive comments by April 19, 2010.

Affected ADs

(b) None.

Applicability

(c) This AD applies to all Airbus Model A330-243, -341, -342, and -343 airplanes; and Model A340-541 and -642 airplanes; certificated in any category; equipped with Rolls-Royce Trent 500 and Trent 700 series engines.

Subject

(d) Air Transport Association (ATA) of America Code 71: Powerplant.

Reason

(e) The mandatory continuing airworthiness information (MCAI) states:

It has been evidenced by test that the tightening torque settings on the Rolls Royce Trent 500 and Trent 700 forward (FWD) and aft (AFT) engine mount link pin retention bolts have always been higher than the design value. These bolts retain the washers that maintain the engine mount vertical load pins in position.

If bolts, as a consequence of the over-torque, fail and move away, it would lead to loss of the vertical load pins, which could result in loss of the primary and/or secondary load path of the forward and/or aft engine mount which could potentially lead to engine separation.

As a short term action, EASA AD 2008-0019 was issued to require a one-time visual inspection of the impacted FWD and AFT engine mount link pin retention bolts in order to detect any broken or missing bolts. This AD, which supersedes EASA AD 2008-0019, mandates a one-time [detailed] visual inspection of the FWD and AFT engine mount link pin retention bolts, in order to ensure that any over-torqued bolt is replaced.

Compliance

(f) You are responsible for having the actions required by this AD performed within the compliance times specified, unless the actions have already been done.

Actions

(g) Except as provided by paragraph (h) of this AD, at the applicable time specified in paragraph (g)(1) or (g)(2) of this AD, perform a one-time detailed visual inspection for the presence of an “X” marked on the heads of the link pin retention bolts of the forward and aft engine mount on all Rolls-Royce Trent 500 and Trent 700 series engines, in accordance with the Accomplishment Instructions of Airbus Mandatory Service Bulletin A330-71-3022 (for Models A330-243, -341, -342, and -343 airplanes) or A340-71-5004 (for Model A340-541 and -642 airplanes), both dated May 5, 2009. If the bolt head is not marked with an “X,” before further flight, replace this bolt with a new bolt marked with an “X” on the bolt head in accordance with the Accomplishment Instructions of Airbus Mandatory Service Bulletin A330-71-3022 (for Models A330-243, -341, -342, and -343 airplanes) or A340-71-5004 (for Model A340-541 and -642 airplanes), both dated May 5, 2009.

(1) For Model A330-243, -341, -342, and -343 airplanes: Within 4,500 flight cycles after the effective date of this AD.

(2) For Model A340-541 and -642 airplanes: Within 2,500 flight cycles after the effective date of this AD.

(h) The actions specified in paragraph (g) of this AD are not required for any engine installed on the airplanes listed in paragraph (g)(1) of this AD, having serial number 964 and subsequent; and the airplanes listed in paragraph (g)(2) of this AD, having serial number 981 and subsequent; if data records conclusively prove that this engine has not been replaced or re-installed since first flight of the airplane.

(i) After the effective date of this AD, no person may install a Rolls Royce Trent 500 or Trent 700 series engine on any airplane, unless it is in compliance with the requirements of this AD.

(j) Although Airbus Mandatory Service Bulletins A330-71-3022 and A340-71-5004, both dated May 5, 2009, specify to submit certain information to the manufacturer, this AD does not include that requirement.

FAA AD Differences

Note 1: This AD differs from the MCAI and/or service information as follows:

(1) The MCAI lists certain Airbus model A330-200 series and -300 series, and A340 series airplanes. Airbus Mandatory Service Bulletins A330-71-3022 and A340-71-5004, both dated May 5, 2009, clarify this effectivity by adding “with Rolls-Royce Trent 500 and Trent 700 series engines.” Airplanes with engines other than Rolls-Royce Trent 500 and Trent 700 are not affected by this AD.

(2) Although the MCAI or service information specifies submitting information to the manufacturer, paragraph (j) of this AD specifies that such submittal is not required.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI EASA Airworthiness Directive 2009-0204, dated September 30, 2009; Airbus Mandatory Service Bulletin A330-71-3022, dated May 5, 2009; and Airbus Mandatory Service Bulletin A340-71-5004, dated May 5, 2009; for related information.

Issued in Renton, Washington, on February 25, 2010.
Jeffrey E. Duven,
Acting Manager, Transport Airplane Directorate, Aircraft Certification Service.

[FR Doc. 2010-4503 Filed 3-3-10; 8:45 am]

BILLING CODE 4910-13-P